DEPARTMENT OF JUSTICE

Antitrust Division

Notice Pursuant to the National Cooperative Research and Production Act of 1993—The Open Group, L.L.C.

Notice is hereby given that, on February 14, 2020, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Acuity Risk Management LLP, London, UNITED KINGDOM; AppTik BVBA, Kraainem, BELGIUM; Beijing Sky Management Consulting Co., Ltd, Beijing, PEOPLE'S REPUBLIC OF CHINA; Belmont Technology Inc., Houston, TX; Beniva Consulting Group, Houston, TX; CEGAL AS, Stavanger, NORWAY; Department of Defense—System Engineering, Fort Meade, MD; Digital India Corporation, New Delhi, INDIA; Elasticsearch,Inc., Mountain View, CA; Encana Corporation, Calgary, CANADA; Epiq Design Solutions, Schaumburg, IL; geoLOGIC Systems Limited, Calgary, CANADA; Getech Group plc, Leeds, UNITED KINGDOM; Hawaiian Electric Company, Honolulu, HI; Integrated Geochemical Interpretation Limited, Bideford, UNITED KINGDOM; Iraya Energies SDN BHD, Kuala Lumpur, MALAYSIA; Japan Oil, Gas and Metals National Corporation, Tokyo, JAPAN; Logtek AS, Stavanger, NORWAY; Lundin Norway AS, Lysaker, NORWAY; MongoDB, New York NY; National Institute for Smart Government, Hyderabad, INDIA; Neptune Energy Norge AS, Sandnes, NORWAY; NetApp, Inc., Sunnyvale, CA; Nippon Telegraph & Telephone Corporation, Chiyoda-ku, JAPAN; NVIDIA, Santa Clara, CA; OMV Exploration & Production GmbH, Vienna, AUSTRIA; Optic Earth Limited, Aberdeen, SCOTLAND; Petrolink Technical Services, INC., Houston, TX; Professional Petroleum Data Management Association, Calgary, CANADA; PTT Exploration and Production, Bangkok, THAILAND; QRC Technologies, LLC, Fredericksburg, VA; Quint Technology, B.V., Amstelveen, THE NETHERLANDS; Rapita Systems, Inc., Novi, MI; Resoptima AS, Oslo, NORWAY; Riversand Technology, Houston, TX; RoQC Data Management AS, Sandnes, NORWAY; Shenzhen Tecsoon Information Technology Co. Ltd., People's Republic of China; SunDrill Energy Services, Houston, TX; SUPCON, Hangzhou, PEOPLE'S REPUBLIC OF CHINA; Tachyus Corporation, Berkeley, CA; TIBCO Software, Inc., Palo Alto, CA; Vedantas Limited (Cairn Oil & Gas), Gurgaon, INDIA; Visible Systems Corporation, Boston, MA; and Wittij Consulting, Smithfield, RI, have been added as parties to this venture.

Also, Alternatives Technology Co., Riyadh, SAUDI ARABIA; Anurag Group of Institutions, Hyderabad, INDIA; ARISE Consulting (SuZhou) Pte. Ltd., Shanghai, PEOPLE'S REPUBLIC OF CHINA; Australian Postal Corporation, Melbourne, AUSTRALIA; BASF Corporation, Florham Park, NJ; BMT Hi-Q Sigma Ltd, Bath, UNITED KINGDOM; EA Dynamics United Kingdom Ltd., Pontyclun, UNITED KINGDOM; EPFL/LICP, Lausanne, SWITZERLAND; Government of Andhra Pradesh, Vijayawada, INDIA; Holonix Srl, Milan, ITALY; HSBC, London, UNITED KINGDOM, JPrakash Consulting, Chennai, INDIA; LGS Innovatioins, Westminster, CO; Metaplexity Associates LLC, Bloomington, MN; Process Systems Enterprise Ltd., London, UNITED KINGDOM; Red Hat (R), Inc., Mountain View, CA; Relcom, Forest Grove, OR; Rogerson Kratos, Irvine, CA; Sanofi S.A., Bridgewater, NJ; Shenzhen Expressway Engineering Consultants Co. Ltd, Shenzhen, PEOPLE'S REPUBLIC OF CHINA; Shift Technologies LLC, Dubai, UNITED ARAB EMIRATES; SimVentions, Fredericksburg, VA; Symbiosis Institute of Telecom Management, Lavale, INDIA; University of Idaho, Center for Secure and Dependable Systems, Davis, CA; University of Wisconsin—Madison, Madison, WI; UTC Aerospace Systems, Westford, MA; XLENT IT Consulting, Sundsvall, SWEDEN; and Yash Consulting, Pvt. Ltd., Indore, INDIA, have withdrawn as parties to this venture.

In addition, L3 Technologies Inc. has changed its name to L3Harris Technologies, Inc., Melbourne, FL; and Anadarko Petroleum Corporation to Occidental Petroleum Corporation, The Woodlands, TX.

No other changes have been made in either the membership or planned activity of the group research project. Membership in this group research project remains open and “TOG” intends to file additional written notifications disclosing all changes in membership.

On April 21, 1997, “TOG” filed its original notification pursuant to Section 6(a) of the Act. The Department of Justice published a notice in the Federal Register pursuant to Section 6(b) of the Act on June 13, 1997 (62 FR 32371).

The last notification was filed with the Department on November 12, 2019. A notice was published in the Federal Register pursuant to Section 6(b) of the Act on December 5, 2019 (84 FR 66696).

Suzanne Morris,
Chief, Premerger and Division Statistics Unit, Antitrust Division.

[FR Doc. 2020-03979 Filed 2-26-20; 8:45 am]

BILLING CODE 4410-11-P